DEPARTMENT OF HOMELAND SECURITY

Transportation Security Administration

Review of the 2018 Biennial National Strategy for Transportation Security (NSTS)

AGENCY: Transportation Security Administration, DHS.

ACTION: Notice and request for comments.

SUMMARY: The Transportation Security Administration (TSA) is publishing this notice to enhance the scope of the agency's consultation in developing the 2020 Biennial National Strategy for Transportation Security (2020 NSTS). Commenters are asked to review the 2018 NSTS base plan (which describes the risk-based foundation of the strategy and sets forth the mission, vision, goals, priorities, and risk-based actions to reduce the vulnerabilities of nationally significant transportation assets against terrorist threats) and submit any comments/edits/questions they may have to inform development of the 2020 NSTS.

DATES: Submit comments by April 25, 2019.

ADDRESSES: Comments may be emailed to TransportationSector@tsa.dhs.gov or mailed to the Strategy, Policy Coordination, & Innovation Office (SP&I), Transportation Security Administration (TSA-28), 601 South 12th Street, Arlington, VA 20598-0028.

FOR FURTHER INFORMATION CONTACT: Dianna Davis-Small at the above address, or by telephone at (571) 227-5425.

SUPPLEMENTARY INFORMATION:

Background

The NSTS addresses the security of “transportation assets in the United States that . . . must be protected from attack or disruption by terrorist or other hostile forces. . . .” 49 U.S.C. 114(s)(3). The NSTS presents a forward-looking, risk-based plan to provide for the security and freedom of movement of people and goods while preserving civil rights, civil liberties, and privacy. It identifies objectives to enhance the security of transportation infrastructure, conveyances, workers, travelers, cargo, and operations.

Consistent with its authorities, TSA's mission is to protect the nation's transportation systems from acts of terrorism, while its vision is an agile security agency, embodied by a professional workforce, that engages its partners and the American people to outmatch a dynamic threat. The NSTS is an important part of fulfilling this mission. TSA leads the development of the NSTS through joint participation with the Department of Transportation and in consultation with government partners and industry owners and operators. The 2018 NSTS includes three objectives: (1) Manage risks to transportation systems from terrorist attacks and enhance system resilience, (2) enhance effective domain awareness of transportation systems and threats, and (3) safeguard privacy, civil liberties, and civil rights, and the freedom of movement of people and commerce.

Comments Invited

TSA is soliciting comments through this notice to enhance the scope of consultation on the 2020 NSTS. Under the statutory requirement to develop the NSTS, TSA is also required to consult with “Federal, State, and local agencies, tribal governments, private sector entities (including nonprofit employee labor organizations), institutions of higher learning, and other entities). See 49 U.S.C. 114(s)(7). TSA has consistently met that requirement through its regular stakeholder outreach efforts. For the 2020 NSTS, TSA is publishing this notice requesting comments to enhance input and ensure there are no untapped sources of information from governments, agencies, transportation-related associations, private sector entities, labor organizations, institutions of higher learning, and other entities beyond the scope of our normal interaction with stakeholders.

TSA is specifically requesting comments on issues that have the potential for significant impacts on the security and resilience of the transportation systems. Because the 2018 NSTS was delivered to Congress on April 4, 2018, the 2020 update will only require revisions to reflect recent changes in the risk environment. Respondents are asked to provide substantive revisions for any changes. We also request that with your comment submissions, you include your name, contact information, affiliation, and the mode or sector you are representing (if applicable). TSA will consider all comments received on or before the closing date for comments. Late-filed comments will be considered to the extent practicable.

Please consider the following in your review.

• The NSTS is a counterterrorism strategy, not an all-hazards plan.

• The NSTS addresses risk-based priorities to protect vital transportation assets from terrorist attack. Consistent with 49 U.S.C. 114(s)(3)(A), the scope of vital transportation assets relevant to the NSTS is defined by whether, in the interests of national security and commerce, the asset must be protected from attack or disruption by terrorists or other hostile forces.

• The strategic environment considers the risks (threats, vulnerabilities, and potential consequences) of a terrorist attack.

TSA is specifically interested in comments on the following issues:

• Does the 2018 NSTS adequately and accurately capture risk-based priorities that identify the types of activities modal security officials in Government and industry should pursue to manage terrorism risks?

• Do the goals aggregate the major elements of the vision into basic, all-encompassing buckets (e.g., “Manage Risks to Transportation Systems from Terrorist Attack and Enhance System Resilience” underneath the Vision of “A secure and resilient transportation system”)?

• Does the Path Forward address programmatic commitments needed to advance security of transportation assets and systems?

The most helpful comments reference a specific portion of the 2018 NSTS, explain the reason for any recommended change, and include supporting data, information, or authority that supports such a recommended change. A copy of the 2018 Biennial NSTS can be found by accessing the TSA Freedom of Information Act (FOIA) Reading Room via the following weblink: https://www.tsa.gov/sites/default/files/foia-readingroom/tsa_biennial_national_strategy_for_transportation_security_cleared_and_final_4.4.18_base_plan_pdf.pdf.

Dated: March 15, 2019.
David P. Pekoske,
Administrator.

[FR Doc. 2019-05693 Filed 3-25-19; 8:45 am]

BILLING CODE 9110-05-P